SMALL BUSINESS ADMINISTRATION

[License No.: 05/05-0228]

Mezzanine Capital Partners, Inc.; Notice of Surrender of License

Notice is hereby given that Mezzanine Capital Partners, Inc., located at 150 South 5th Street, Suite 1720, Minneapolis, MN 55402, has surrendered its license to operate as a small business investment company under the Small Business Investment Act of 1958, as amended (the Act). Mezzanine Capital Partners, Inc. was licensed by the Small Business Administration on September 26, 1997.

Under the authority vested by the Act and pursuant to the Regulations promulgate thereunder, the surrender of the license was accepted on April 11, 2001, and accordingly, all rights, privileges and franchises derived therefrom have been terminated.

(Catalog of Federal Domestic Assistance Program No. 59.011, Small Business Investment Companies)
Dated: April 12, 2001.
Harry Haskins,
Acting Associate Administrator for Investment.

[FR Doc. 01-9598 Filed 4-17-01; 8:45 am]

BILLING CODE 8025-01-P